DEPARTMENT OF TRANSPORTATION

National Highway Traffic Safety Administration

Reports, Forms, and Record Keeping Requirements; Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on May 12, 2010 (75 FR 26837-26838).

DATES: Comments must be submitted on or before [insert date 30 days after publication].

ADDRESSES: Send comments, within 30 days, to the Office of Information and Regulatory Affairs, Office of Management and Budget, 725-17th Street, NW., Washington, DC 20503, Attention NHTSA Desk Officer.

FOR FURTHER INFORMATION CONTACT: Randolph Atkins, PhD, Office of Behavioral Safety Research, National Highway Traffic Safety Administration, NTI-131, Room W46-500, 1200 New Jersey Ave, SE., Washington, DC 20590. Dr. Atkins' phone number is 202-366-5597 and his e-mail address is randolph.atkins@dot.gov.

SUPPLEMENTARY INFORMATION: Title: Investigate the Use and Feasibility of Speed Warning Devices.

Type of Request: New information collection request—debriefing session follow-up with participants from an earlier on-road instrumented vehicle study.

Abstract: Speeding is one of the primary factors leading to vehicle crashes. In 2008, 31% of all fatal crashes were speeding-related. The estimated economic cost to society for speeding-related crashes is $40.4 billion per year. Driving at higher speeds reduces the ability of drivers to avoid obstacles or react to sudden changes in the roadway environment and increases the severity of crashes. Of particular concern are the habitual speeders and aggressive drivers for whom other countermeasures, such as enforcement, licenses suspensions, and fines, are not effective deterrents. The data collected in this study will provide NHTSA with important information on a countermeasure with the potential to address an especially challenging segment of the driving population that poses an inordinately high safety risk to themselves and other drivers who share the roads with them. In this pilot study, NHTSA will be conducting on-road instrumented vehicle data collection with drivers who have a history of speeding violations to examine the impact of in-vehicle speed warning devices on their driving speed patterns and speeding behavior. Participants will be asked to install a speed warning device for eight weeks. The device will provide data on travel speeds of participants' vehicles coupled with GPS information that is linked to a database with speed limits for various sections of roads in the study area. After completing their on-road phase of the data collection, participating drivers will be asked to participate in a short debriefing interview while the in-vehicle warning device is removed from their vehicle. The debriefing sessions will focus on the drivers' subjective experience regarding the speed warning device—how it affected their driving behavior, any problems experienced with the device, how they interacted with the device, and their opinion of the device, as well as feedback on their experience as a participant in the study. This subjective data will be coupled with the data from their actual driving behavior to help NHTSA develop a better understanding of speeding and speeders and the potential acceptance and effectiveness of using speed warning devices as a countermeasure to alter the speeding behavior of habitual speeders. The debriefing sessions are expected to provide data relevant to implementation issues and concerns associated with the device, as well as the key advantages and disadvantages associated with the use of this device as a countermeasure.

Affected Public: NHTSA plans to recruit 80 drivers from the Rockville, MD area, with a driving history of at least three speeding violations in the previous five years, through the MVA. The participants will be stratified; with 20 male and 20 female drivers age 18-29 and 20 male and 20 female drivers age 30 and above. Participation would be voluntary and confidential.

Estimated Total Annual Burden: The total estimated annual burden is 40 hours for the debriefing session (80 × 30 minutes per session) while the monitoring device is being removed from their vehicle. The participants would not incur any reporting cost from the information collection and will receive a $150 honorarium for data collection. The participants would not incur any record keeping burden or record keeping cost from the information collection.

Comments are invited on the following:

(i) Whether the proposed collection of information is necessary for the proper performance of the functions of the agency, including whether the information will have practical utility;

(ii) The accuracy of the agency's estimate of the burden of the proposed information collection;

(iii) Ways to enhance the quality, utility, and clarity of the information to be collected; and

(iv) Ways to minimize the burden of the collection of information on respondents, including the use of automated collection techniques or other forms of information technology.

A comment to OMB is most effective if OMB receives it within 30 days of publication.

Authority: 44 U.S.C. 3506(c)(2)(A).

Issued on: August 3, 2010.
Jeff Michael,
Associate Administrator, Research and Program Development.

[FR Doc. 2010-19352 Filed 8-5-10; 8:45 am]

BILLING CODE 4910-59-P